DEPARTMENT OF ENERGY

Federal Energy Regulatory Commission

North East Wisconsin Hydro, LLC; Notice Soliciting Scoping Comments

Take notice that the following hydroelectric application has been filed with the Commission and is available for public inspection.

a. Type of Application: Original Major License.

b. Project No.: P-2744-039.

c. Date filed: February 28, 2013.

d. Applicant: North East Wisconsin Hydro, LLC.

e. Name of Project: Menominee-Park Mill Hydroelectric Project.

f. Location: On the Menominee River in Menominee County, Michigan, and Marinette County, Wisconsin.

g. Filed Pursuant to: Federal Power Act 16 U.S.C. 791 (a)-825(r).

h. Applicant Contact: Scott Klabunde, Senior VP of Operations; North American Hydro Holdings, LLC; P.O. Box 167; 116 N State Street; Neshkoro, WI 54960; (920) 293-4628 (Ext. 314).

i. FERC Contact: Chelsea Hudock, (202) 502-8448 or chelsea.hudock@ferc.gov.

j. Deadline for filing scoping comments: July 23, 2014.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2744-039.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Menominee-Park Mill Project consists of two developments: the Menominee Development and the Park Mill Development.

The Park Mill Development consists of the following existing features:

(1) A 538.58-long concrete gravity dam that includes the following segments (from south to north):

(a) A 22-foot-high, 303.5-foot-long spillway with a crest elevation of 607.0 feet mean sea level (msl), topped with flashboards providing a crest elevation of 610.0 feet msl;

(b) An 18-foot-long abandoned fishway and log sluice blocked with wooden stop logs having a crest elevation of 610.0 feet msl;

(c) A 168.58-foot-long spillway with seven 20-foot-wide by 11-foot-high Tainter gates with a sill elevation of 598 feet msl and a top of gate elevation 610 feet msl;

(d) A 22-foot-high, 48.5-foot-long concrete gravity spillway with a crest elevation of 607.0 feet msl, topped with flashboards providing a crest elevation of 610.0 feet msl;

(2) A reservoir with a normal operating elevation of 610.0 feet msl, a surface area of about 539 acres, and a normal operating head of 16 feet;

(3) Inlet works that consist of a 100-foot-wide concrete gravity section with five 16-foot-wide Tainter gates having a sill elevation of 598 feet msl and a top of gate elevation 610 feet msl;

(4) A 2,400-foot-long power canal that is created by an earthen embankment with a 16 foot top width and a crest elevation of 613 feet;

(5) A 138-foot-long stone and brick powerhouse at the downstream end of the headrace canal with a total installed capacity of 2.375 MW and a total combined maximum hydraulic capacity of 2,309 cfs, consisting of:

(a) One 300-horsepower (HP) Kaplan turbine connected to a 0.225-MW generator,

(b) two 800-HP Francis turbines each connected to a 0.420-MW generator,

(c) two 700-HP Kaplan turbines each connected to a 0.430-MW generator,

(d) one 465-HP Kaplan turbine connected to a 0.450-MW generator;

(6) A 3-phase 3,000-kilovolt ampere (kVA), 0.48/24.9-kilovolt (kV) step-up transformer;

(7) A 4,430-foot-long, 24.900-kV transmission line from the Park Mill transformer to its interconnection with Wisconsin Public Service Corporation (WPSC); and

(8) appurtenant facilities.

The Park Mill Development consists of the following existing features:

(1) a 20-foot-long earthen embankment with a concrete core wall connected to the concrete dam at the south end of the dam;

(2) a 466.5-long concrete gravity dam that includes the following segments (from south to north):

(a) a 15-foot-long dam with a crest elevation of 598.5 feet msl;

(b) a 24-foot-high, 293-foot-long spillway with a sill elevation of 582.0 feet, consisting of 12 20-foot-wide by 11-foot-high Tainter gates;

(c) a 150.5-foot-long overflow spillway with a crest elevation of 594.0 feet msl;

(d) an 8-foot-long abandoned fishway blocked with wooden stop logs having a crest elevation of 594.0 feet msl;

(3) a reservoir with a normal operating elevation of 594.0 feet msl, a surface area of about 143 acres and a normal operating head of 12 feet;

(4) a 204-foot-long concrete and brick powerhouse integral with the dam on the north side of the river with a total installed capacity of 2.240 MW and a total combined maximum hydraulic capacity of 2,622 cfs, consisting of:

(a) two 500-HP Kaplan turbines each connected to a 0.458 MW generator, and

(b) two 1,130-HP Kaplan turbines each connected to a 0.662 MW generator,

(5) a 3-phase 3,000-kVA 4.16/24.9-kV step-up transformer;

(6) a 575-foot-long, 24.900-kV transmission line from the Menominee transformer to its interconnection with WPSC; and

(7) appurtenant facilities.

m. A copy of the application is available for review at the Commission in the Public Reference Room or may be viewed on the Commission's Web site at http://www.ferc.gov using the “eLibrary” link. Enter the docket number excluding the last three digits in the docket number field to address the document. For assistance, contact FERC Online Support. A copy is available for inspection and reproduction at the address in Item H above.

n. You may also register online at http://www.ferc.gov/docs-filing/esubscription.asp to be notified via email of new filings and issuances related to this or other pending projects. For assistance, contact FERC Online Support.

o. Scoping Process:

The Commission staff intends to prepare a single Environmental Assessment (EA) for the Menominee-Park Mill Hydroelectric Project in accordance with the National Environmental Policy Act. The EA will consider both site-specific and cumulative environmental impacts and reasonable alternatives to the proposed action.

Commission staff does not propose to conduct any on-site scoping meetings at this time. Instead, we are soliciting comments, recommendations, and information, on the Scoping Document (SD) issued on June 23, 2014.

Copies of the SD outlining the subject areas to be addressed in the EA were distributed to the parties on the Commission's mailing list and the applicant's distribution list. Copies of the SD may be viewed on the Web at http://www.ferc.gov using the “eLibrary” link. Enter the docket number excluding the last three digits in the docket number field to access the document. For assistance, call 1-866-208-3676 or for TTY, (202) 502-8659.

Dated: June 23, 2014.
Kimberly D. Bose,
Secretary.

[FR Doc. 2014-15078 Filed 6-26-14; 8:45 am]

BILLING CODE 6717-01-P